DEPARTMENT OF AGRICULTURE

Forest Service

Nez Perce-Clearwater NF's, Salmon River Ranger District, Idaho; Hungry Ridge Restoration Project

AGENCY: Forest Service, USDA.

ACTION: Notice of intent to prepare an environmental impact statement.

SUMMARY: The proposed action would use a combination of timber harvest, precommercial thinning, prescribed fire and reforestation to achieve the desired range of age-classes, size classes, vegetative species distributions, habitat complexity and landscape patterns across the forested portions of the project area. Road decommissioning, culvert replacements, improvement of trail crossings and road improvements are proposed to improve watershed health. The DEIS will include two Forest Plan amendments. The first amendment would adopt the Regional soils standards for the Hungry Ridge project, while the second amendment would allow mechanical treatment within Forest Plan Old Growth (Management Area 20) and reallocate some existing MA20 to stands better suited to Old Forest attributes. The EIS will analyze the effects of the proposed action and alternatives. The Nez Perce-Clearwater NF's, invites comments and suggestions on the issues to be addressed. The agency gives notice of the National Environmental Policy Act (NEPA) analysis and decision making process on the proposal, so interested and affected members of the public may participate and contribute to the final decision.

DATES: Comments concerning the scope of the analysis must be received by March 31, 2014. The draft environmental impact statement is expected in July 2014 and the final environmental impact statement is expected in December 2014.

ADDRESSES: Send written comments to Barry Ruklic, Interdisciplinary Team Leader; Grangeville Office, 104 Airport Road; Grangeville, ID 83530. Comments may also be sent via email to comments-northern-nezperce-salmon-river@fs.fed.us, or via facsimile to FAX 208-983-4099. Include your name, address, organization represented (if any), and the name of the project for which you are submitting comments. Electronic comments will be accepted in MS Word, Word Perfect, PDF or Rich Text formats. Comments received in response to this solicitation, including names and addresses of those who comment, will be a part of the public record for this proposed action. Comments submitted anonymously will be accepted and considered; however, anonymous comments will not provide the Agency with the ability to provide the respondent with subsequent environmental documents.

FOR FURTHER INFORMATION CONTACT: Barry Ruklic, Interdisciplinary Team Leader, (208) 983-4026.

Individuals who use telecommunication devices for the deaf (TDD) may call the Federal Information Relay Service (FIRS) at 1-800-877-8339 between 8 a.m. and 8 p.m., Eastern Time, Monday through Friday.

SUPPLEMENTARY INFORMATION: The objective of the Hungry Ridge Restoration project is to manage forest vegetation to restore natural disturbance patterns; improve long-term resilience at the stand and landscape level(s); reduce the potential risk to private property and structures; improve watershed conditions; and maintain/improve habitat structure, function and diversity.

Purpose and Need for Action

Need: Historically, wildland fire was the dominant influence in defining the project area landscape and the native species that adapted and persisted within this dynamic environment. The advent of effective fire suppression effectively removed wildland fire's effects from the Hungry Ridge landscape and ecological system. This has had a profound effect on the vegetation, wildlife and the ecological integrity of the area including a vegetative shift to more fire intolerant species.

Suppression of wildland fire and increasing levels of insect and disease mortality in the Hungry Ridge landscape are causing an increase in fuel loadings, including higher quantities, greater continuity and distribution. This situation has increased the risk of large, stand replacing wildfire that could adversely impact vegetation, fisheries resources, watershed function, wildlife habitat(s) and private land/homes.

Complexity has increased due to the numerous private lands and structures as well as major ingress/egress routes. The private lands (two major parcels) are split between over 20 different landowners, with the potential for more subdividing in the future. The private land and structures (over 20 structures) are situated on the main ridgeline running through the project area. Approximately 80% of the planning area is recognized as Wildland-Urban interface (WUI).

Past management practices have also altered the vegetation and ecosystem processes and provided an extensive transportation system within the project area. Road construction has impacted wildlife security, making elk, moose, fisher, pine marten, lynx and wolves more vulnerable to hunting and trapping mortality. Additionally, the wide-spread availability and use of off-road vehicles has resulted in a reduction in wildlife security.

Some landscape elements, notably on drier sites, such as vegetative patch size, stand structure, and species composition are currently outside the desired range of variability for the area, including a diminishing proportion of fire-climax stands comprised of species such as ponderosa pine and western larch.

While forest succession in the area has favored some wildlife species (ie pileated woodpecker), it has reduced habitat quality for species favoring open understories (ie goshawk, pygmy nuthatch and flammulated owl), decreased forage availability and quality for ungulates and decreased habitats that support black-backed woodpeckers (burned areas).

Native grassland communities have also been impacted by fire exclusion and past management practices. Annual grasses and noxious weeds have established on open, low-elevation, drier slopes, as well as along roads and trails throughout the area. Winter range herbaceous forage and browse plants have declined or become decadent and invasive weeds and grasses have reduced the quality and quantity of available forage.

Purpose: Restore a more diverse and resilient forest structure, with a range of age classes, size classes, habitat complexity (diversity) and disturbance patterns that more closely emulate the results of natural disturbance. This would reduce the intensity of subsequent wildland fire events and increase the opportunities for fire management strategy and tactics to be successful, while providing for firefighter and public safety.

Watershed and fisheries resources will be improved, including Deer Creek prescription watershed, through specific actions and indirect vegetation restoration opportunities. Wildlife habitat will be improved for ungulates and increased for species favoring open understories (ie goshawk, pygmy nuthatch and flammulated owl).

Timber harvest and prescribed burning is proposed to help achieve some resource management objectives as well as provide a source of wood products for local industry and a source of jobs for local residents.

Proposed Action

The Nez Perce-Clearwater National Forests, Salmon River Ranger District is proposing Commercial harvest on 10,600 acres throughout the Hungry Ridge landscape. Intermediate harvest (6,352 acres proposed) methods including variable density selection, commercial thinning, understory removal, sanitation, or pre-commercial thinning may be utilized to thin canopy fuels and create conditions unfavorable for crown fire persistence and initiation. These treatments will favor fire tolerant seral species, such as ponderosa pine and western larch.

Regeneration harvest methods (4,234 acres proposed) including seedtree, shelterwood and clearcutting with reserves, will be utilized to manipulate patch size, age-class distribution, and species composition. These treatments will emphasize regeneration of seral species and reduce the spread of insect and disease.

Both temporary and specified permanent road construction (approximately 24 miles total) associated with harvest operations is needed to economically treat target stands.

Prescribed fire is proposed on 12,372 acres throughout the Hungry Ridge landscape.

Prescribed fire will be utilized to treat natural fuel and residual fuel accumulations left from harvest operations. Prescribed fire would create a favorable seed-bed for regeneration of fire climax species, and create plantable sites in open patches. Fire will also encourage grass, forbe and shrub growth.

Prescribed fire will be utilized to treat natural fuel accumulations, including thinning of trees. This prescription will be utilized, primarily where harvest cannot be used and/or is not economically feasible. Maintenance burns would occur on regularly scheduled intervals to maintain stand structure, minimize fuel accumulations and encourage big-game browse.

Road decommissioning is proposed to minimize further impacts to watershed, fisheries and soil resources. Road decommissioning will range from abandonment, removing culverts or total recontouring of road prism. Twenty miles of decommissioning opportunities have been identified and will be analyzed as part of the proposal.

Watershed/Fisheries improvement projects vary from culvert replacements, RHCA planting to constructing exclosures. Culvert replacement (12 identified) is proposed to create aquatic organism passage and/or help facilitate 100 year flows and reduce sedimentation into the stream channel. The majority of culvert replacement opportunities are in the tributaries of Mill Creek (southern portion of analysis area).

Recreation/trail improvements are proposed to decrease impacts to fisheries resources and improve usability. Trail conversion; stream crossing treatments (Buck meadows area) and access improvements (American Creek drainage) are a few of the opportunities identified.

Wildlife—Restoration of forest structure and reintroduction of fire on the landscape will create winter range for Elk and Deer, as well as, provide improved habitat for many wildlife species, including Flammulated Owl and white-headed woodpeckers.

Weed Treatments are proposed to continue treatment of known populations within the analysis area, as well as, minimizing the spread of existing and potential weed populations.

Possible Alternatives

The Forest Service will consider a no-action alternative, which will serve as a baseline for comparison of alternatives. The proposed action will be considered along with additional alternatives that will be developed to meet the purpose and need for action, and to address significant issues identified during scoping.

Responsible Official

Rick Brazell, Nez Perce-Clearwater Forest Supervisor, Nez Perce-Clearwater National Forests Supervisor's Office, 903 3rd St., Kamiah, ID 83536.

Nature of Decision To Be Made

The deciding official will adopt the proposed action, in whole or in part, or another alternative; and what mitigation measures and management requirements will be implemented.

Preliminary Issues

Reallocation of some MA20 (Forest Plan Old Growth) from existing locations, to other stands within the project area. Field reconnaissance has determined inconsistencies with MA20 allocations and what is actually present within the stands. Alternative locations for MA20, better suited to Old forest structure and definition have been identified.

Mechanical treatment is proposed within existing MA20 (Forest Plan Old Growth) stands. Treatments are designed to result in a less fire, insect and disease-prone stand(s), that will persist into the future. Large trees will be left on the landscape.

Road construction is proposed to economically achieve desired conditions within the project area.

A Forest Plan amendment for soils is proposed to move some forested stands to desired future condition and fulfill the purpose and need of the project and improve soil conditions.

Restoration activities will occur in the Deer Creek prescription watershed, to improve water quality values.

Scoping Process

This notice of intent initiates the scoping process, which guides the development of the environmental impact statement. The scoping process identifies issues to be analyzed in detail and leads to the development of alternatives to the proposal. The Forest Service is seeking information and comments from other Federal, State and local agencies; Tribal Governments; and organizations and individuals who may be interested in or affected by the proposed action. Comments received in response to this notice, including the names and addresses of those who comment, will be a part of the project record and available for public review.

Early Notice of Importance of Public Participation in Subsequent Environmental Review: A Draft Environmental Impact Statement (DEIS) will be prepared for comment. The next major opportunity for public input will be when the DEIS is published. The comment period for the DEIS will be 45 days from the date the Environmental Protection Agency publishes the notice of availability in the Federal Register. The Draft EIS is anticipated to be available for public review in July of 2014.

It is important that reviewers provide their comments at such times and in such manner that they are useful to the agency's preparation of the environmental impact statement. Therefore, comments should be provided prior to the close of the comment period and should clearly articulate the reviewer's concerns and contentions.

Dated: February 4, 2014.
Rick Brazell,
Forest Supervisor.

[FR Doc. 2014-03032 Filed 2-11-14; 8:45 am]

BILLING CODE 3410-11-P